DEPARTMENT OF HEALTH AND HUMAN SERVICES

Office of the Secretary

Office of Global Health Affairs; Statement of Organization, Functions, and Delegations of Authority

Part A, Office of the Secretary, of the Statement of Organization, Functions, and Delegations of Authority for the Department of Health and Human Services, Part A, as last amended at 61 FR 21470, dated, May 10, 1996; Chapter AA, Immediate Office of the Secretary, as last amended at 44 FR 31045, dated May 30, 1979, more recently by a memorandum dated September 3, 2002; Chapter AN, “Office of the Assistant Secretary for Public Health Emergency Preparedness, as last amended at 67 FR 71568-70, dated December 12, 2002; and Part A, Office of the Secretary, as last amended at 60 FR 56605-06, and more recently at 61 FR 21470, dated May 10, 1996. This Notice will do the following: establish a new Staff Division (STAFFDIV), Chapter AQ, “Office of Global Health Affairs (OGHA)” within the Office of the Secretary; retitle the Office of the Assistant Secretary for Public Health Emergency Preparedness, as the Office of Public Health Emergency Preparedness (OPHEP); and include the OGHA (AQ), the OPHEP (AN), and the Federal Occupational Health Service (PG) and associated staff in the U.S. Public Health Service.

The OGHA is being elevated to emphasize the importance of its primary responsibility, which is to ensure a “One Department” approach to all HHS-related international matters. It also). The changes are as follows:

I. Under Chapter AA, make the following changes:

A. Under Section AA.10 Organization, delete the “Office of Global Health Affairs AAE,” and replace with the “Office of Global Health Affairs AQ”

B. Under Section AA.20 Function, delete the “Office of Global Health Affairs (AAE),” in its entirety.

II. Under Part A, establish a new Chapter AQ, “Office of Global Health Affairs (OGHA),” to read as follows:

SECTION AQ.00 MISSION

SECTION AQ.10 ORGANIZATION

SECTION AQ.20 FUNCTIONS

Section AQ.00 Mission. The mission of the Office of Global Health Affairs (OGHA) is to provide policy advice and direction to the Secretary, Deputy Secretary and other Department of Health and Human Services (HHS) senior officials in the area of international health, family and social affairs, including health diplomacy in support of U.S. foreign policy. OGHA's mission is to ensure a centralized and coordinated approach to all international matters to promote the health of the world's population by advancing the U.S. and HHS' global strategies and partnerships, thus serving the health of the people of the United States.

Section AQ.10 Organization: The Office of Global Health Affairs (OGHA) is headed by a Director who reports directly to the Secretary.

Section AQ.20 Functions: Office of Global Health Affairs (AQ)—The Office of Global Health Affairs (OGHA) is headed by a Director who reports directly to the Secretary. It receives most of its administrative support from the Office of the Secretary Executive Office (OSEO), but retains primary responsibility for budget and travel management. OGHA advises the Secretary and other senior officials on activities that are of a global nature, including international travel, meetings, and presentations. The Office of Global Health Affairs is responsible for ensuring a centralized approach to all international matters in the following areas: represents the Secretary and other senior officials in international negotiations on health, family and social matters; coordinates and leads Departmental participation in the meetings of multilateral organizations, including the World Health Organization, the Pan American Health Organization, the United Nations Children's Fund (UNICEF), the Global Fund to Fight AIDS, Tuberculosis and Malaria, the United Nations AIDS Programme (UNIAIDS), and other international agencies; represents the Department in relevant interagency working groups convened by the National Security Council, the Domestic Policy Council and the Office of the U.S. Trade Representative; in consultation with appropriate OPDIV and STAFFDIV leadership and staff, clears all documents related to international health, family and social affairs; coordinates and reviews international travel and long-term international assignments and details for all Departmental employees—including civil servants and members of the Commissioned Corps, and special government employees; promotes cooperative health programs with other countries; coordinates the Department's technical and policy-related input into international humanitarian issues and international and domestic refugee health issues; represents the Department on international health issues with other federal departments and agencies, international organizations, the private sector and foreign countries; carries out the Department's responsibilities under the U.S. Exchange Visitor Program; and, ensures protocol at all international functions and events.

III. Under Chapter AN, Office of the Assistant Secretary for Public Health Emergency Preparedness, make the following changes:

Retitle chapter AN, “Office of the Assistant Secretary for Public Health Emergency Preparedness (OASPHEP)” as the “Office of Public Health Emergency Preparedness (OPHEP)” and change all references within HHS of OASPHEP to read OPHEP.

IV. Continuation of Policy: Except as inconsistent with this reorganization, all statements of policy and interpretations with respect to the Office of Global Health Affairs heretofore issued and in effect prior to this reorganization are continued in full force and effect.

V. Delegation of Authority: All delegations and redelegations of authority made to officials and employees of the Office of Global Health Affairs will continue in them or their successors pending further redelegation, provided they are consistent with this reorganization.

VI. Funds, Personnel, and Equipment: Transfer of organizations and functions affected by this reorganization shall be accompanied by direct and support funds, positions, personnel, records, equipment, supplies and other sources.

VII. Continuation of the Public Health Service: Delete Paragraph VI, title “Continuation of the Public Health Service,” as last amended at 61 FR 21470, dated May 10, 1996, and replace with the following:

Continuation of the U.S. Public Health Service: Within the Department of Health and Human Services, the U.S. Public Health Service Operating Divisions, the Office of Public Health and Science, the Office of Global Health Affairs (AQ), the Office of Public Health Emergency Preparedness (AN), and the Federal Occupational Health Service (PG) and associated staff shall constitute the U.S. Public Health Service.

Dated: August 11, 2004.
Tommy G. Thompson,
Secretary.

[FR Doc. 04-19087 Filed 8-19-04; 8:45 am]

BILLING CODE 4150-28-M